DEPARTMENT OF COMMERCE

National Oceanic and Atmospheric Administration

RIN 0648-XF784

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Recreational Advisory Panel to consider actions affecting New England fisheries in the exclusive economic zone (EEZ). Recommendations from this group will be brought to the full Council for formal consideration and action, if appropriate.

DATES: This meeting will be held on Tuesday, November 14, 2017 at 10 a.m.

ADDRESSES:

Meeting address: The meeting will be held at the DoubleTree by Hilton, 363 Maine Mall Road, South Portland, ME 04106-02360; phone: (207) 775-6161.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Recreational Advisory Panel will receive a report from GARFO's recreational management workshop. They plan to review and discuss recreational fishing data for fishing year 2016 and preliminary fishing year 2017. The Advisory Panel will discuss Framework Adjustment 57—Specifications and Management Measures, in particular, (1) An overview of the work of the Plan Development Team (PDT), (2) Discuss draft FY2018-FY2020 specifications and recreational management measures process and will make recommendations to the Groundfish Committee. They will have discussion of possible groundfish priorities for 2018, and develop recommendations to the Groundfish Committee. The panel will discuss several recent Executive Orders have been issued about streamlining current regulations, and NOAA is seeking public input on the efficiency and effectiveness of current regulations and whether they can be improved. Discuss whether there are any regulations in the Northeast Multispecies fishery management plan that could be eliminated, improved, or streamlined. They will discuss implementation of new electronic vessel trip reports (eVTRs) for for-hire vessels. Other business will be discussed as necessary.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: October 19, 2017.
Tracey L. Thompson,
Acting Deputy Director, Office of Sustainable Fisheries, National Marine Fisheries Service.

[FR Doc. 2017-23036 Filed 10-23-17; 8:45 am]

BILLING CODE 3510-22-P